DEPARTMENT OF ENERGY

Federal Energy Regulatory Commission

[Project No. 12796-004]

City of Wadsworth, OH; Notice of Application Tendered for Filing With the Commission and Soliciting Additional Study Requests

Take notice that the following hydroelectric application has been filed with the Commission and is available for public inspection.

a. Type of Application: Major Original License.

b. Project No.: P-12796-004.

c. Date filed: March 28, 2011.

d. Applicant: City of Wadsworth, Ohio.

e. Name of Project: R.C. Byrd Hydroelectric Project.

f. Location: On the Ohio River at the U.S. Army Corps of Engineers' (Corps), R.C. Byrd Locks and Dam (river mile 279.2), approximately 12.7 miles south of the confluence of the Ohio River and the Kanawha River, nine miles south of the Town of Gallipolis, Gallia County, Ohio. The project would occupy 7.6 acres of Federal land managed by the Corps.

g. Filed Pursuant to: Federal Power Act 16 U.S.C., 791(a)-825(r).

h. Applicant Contact: Mr. Chris Easton, Director of Public Service, the City of Wadsworth, Ohio, 120 Maple Street, Wadsworth, OH 44281 (330-335-2777); Philip E. Meier, Hydro Development, American Municipal Power, Inc., 1111 Schrock Road, Suite 100, Columbus, OH (614-540-0913).

i. FERC Contact: Gaylord Hoisington, (202) 502-6032 or gaylord.hoisington@ferc.gov.

j. Cooperating agencies: Federal, State, local, and Tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: May 27, 2011.

All documents may be filed electronically via the Internet. See 18 CFR 385.2001(a)(1)(iii) and the instructions on the Commission's Web site (http://www.ferc.gov/docs-filing/efiling.asp). Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filings, documents may also be paper-filed. To paper-file, mail an original and seven copies to: Kimberly D. Bose, Secretary, Federal Energy Regulatory Commission, 888 First Street, NE., Washington, DC 20426.

m. The application is not ready for environmental analysis at this time.

n. The proposed project would utilize the existing Corps' R.C. Byrd Locks and Dam and would consist of the following new facilities: (1) A 1,200-foot long intake channel; (2) a trashrack located in front of each of the generating unit intakes, with a bar spacing of approximately 8 inches; (3) a reinforced concrete powerhouse measuring approximately 258 feet long by 145 feet wide by 110 feet high, and housing two bulb-type turbine generator units with a total installed capacity of 50 megawatts; (4) a 900-foot-long tailrace channel; (5) a 2.41-mile-long, 138-kilovolt transmission line; and (6) appurtenant facilities. The proposed project would have an average annual generation of 266 gigawatt-hours.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via e-mail of new filings and issuances related to this or other pending projects. For assistance, contact FERC Online Support.

p. With this notice, we are initiating consultation with the Ohio State Historic Preservation Officer (SHPO), as required by 106, National Historic Preservation Act, and the regulations of the Advisory Council on Historic Preservation, 36 CFR 800.4.

q. Procedural schedule: The application will be processed according to the following preliminary Hydro Licensing Schedule. Revisions to the schedule will be made as appropriate.

Issue Notice of Acceptance | July 2011
Issue Scoping Document I | August 2011.
Comments on Scoping Document I | September 2011.
Revised Scoping Document | November 2011.
Issue notice of ready for environmental analysis | November 2011.
Commission issues EA, draft EA | April 2012.
Notice of the availability of the EA | June 2012.

Dated: April 11, 2011.
Kimberly D. Bose,
Secretary.

[FR Doc. 2011-9249 Filed 4-15-11; 8:45 am]

BILLING CODE 6717-01-P